DEPARTMENT OF DEFENSE

Office of the Secretary

[Transmittal No. 19-17]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-17 with attached Policy Justification and Sensitivity of Technology.

Dated: June 10, 2019.
Aaron T. Siegel,
Alternate OSD Federal Register Liaison Officer, Department of Defense.

BILLING CODE 5001-06-P

BILLING CODE 5001-06-C

Transmittal No. 19-17

Notice of Proposed Issuance of Letter of Offer Pursuant to Section 36(b)(1) of the Arms Export Control Act, as amended

(i) Prospective Purchaser: Government of the Czech Republic

(ii) Total Estimated Value:

Major Defense Equipment * | $450 million
Other | $350 million
Total | $800 million

(iii) Description and Quantity or Quantities of Articles or Services under Consideration for Purchase: The Government of the Czech Republic has requested to buy twelve (12) UH-60M Black Hawk Helicopters in standard U.S. Government configuration with designated unique equipment and Government Furnished Equipment (GFE)

Major Defense Equipment (MDE):

Twelve (12) UH-60M Black Hawk Helicopters with Designated Unique Equipment

Twenty-eight (28) T700-GE-701D Engines (24 installed and 4 spares)

Twenty-nine (29) H-764GU Embedded Global Positioning Systems with Inertial Navigation and Country Unique SAASM (24 installed and 5 spares)

Twenty-four (24) M240H Machine Guns

One-hundred fourteen (114) Advanced Precision Kill Weapon Systems (APKWS)

Fifteen (15) AN/AAR-57(V)3 Common Missile Warning System (CMWS) (12 installed and 3 spares)

Non-MDE:

Also included are four (4) Aviation Mission Planning Systems (AMPS), twenty-nine (29) AN/ARC-231 UHF/VHF Radios with RT-1808A, twenty-nine (29) AN/ARC-201D SINCGARS Airborne Radios System with RT-1478D, fifteen (15) AN/ARC-220(V)3 HF Radio, twelve (12) Federated Advanced Navigation System (FANS) with RNP/RNAV, fifteen (15) AN/APX-123 IFF with Mode 4/5 Transponder (12 installed and 3 spares), fifteen (15) AN/ARN-147(V) (12 installed and 3 spares), fifteen (15) AN/ARN-149(V) Automatic Digital Frequency (12 installed and 3 spares), fifteen (15) Tactical Airborne Navigation System (TACAN) AN/ARN-153 (12 installed and 3 spares), fifteen (15) AN/APR-39C(V)l/4 Radar Warning Receiver, fifteen (15) AN/AVR-2B(V) Laser Warning System (12 installed and 3 spares), sixty (60) Military Grade AN/AVS-6 Night Vision Goggles (NVGs), four (4) EBC-406HM Emergency Locator Transmitter (ELT), Aircraft Wireless Intercom System (AWIS), forty-eight (48) Machine Gun Mounts, twenty-four (24) M134D Mini Gun, four thousand (4,000) M-134 Inert Training Rounds, twenty-four (24) M-134 Power Supply Pack, twelve (12) GP-19 Machine Gun Pods, twelve (12) GAU-19B Machine Guns, twenty-four (24) M-134 Power Supply Pack, one hundred forty-four (144) M-134 Spare Barrels, four thousand (4,000) M-134 Training Rounds, twelve (12) M-134 Mount Systems, twelve (12) Packaging Crating and Handling Mount System in Support of M-134, twelve (12) M261 Rocket Launchers, one hundred thousand (100,000) 7.62MM 4 Ball M80 1 Tracer M62 Linked, five hundred one thousand (501,000) Cartridge 7.62MM 4 Ball 1 Tracer, ten thousand (10,000) Cartridge 50 Caliber Ball, ten thousand (10,000) 50 Caliber 4 Ball 1 Tracer, ten thousand (10,000) Cartridge 50 Caliber 4 Armor Piercing Incendiary 1 Armor Piercing Incendiary Tracer Linked, three Hundred (300) Cartridge 25.4 Millimeter Decoy M839, four (4) Cartridge Impulse CCU-92/A, three hundred eighty-four (384) Rocket 2.75 Inch High Explosive Warhead M151 Fuze M423 Motor MK66-4, two hundred forty (240) Warhead 2.75 Inch Rocket M151HE, one hundred eighty (180) Rocket Motor 2.75 Inch MK66-4, four hundred (400) Flare Aircraft Countermeasure M206, Two (2) Airborne Command and Control Systems includes three (3) PRC-117s (two (2) as line-of-sight and one (1) as beyond line-of-sight, one (1) iridium phone, one (1) ROVER 4 (to UAS), DAGAR (GPS)), twelve (12) AN/APN-209 Radar Altimeter, twenty-four (24) Upturned Exhaust System, thirteen (13) MX-10D EO/IR Sensor with Laser Designator (12 and 1 spare), thirteen (13) IZLED 200 PIR Laser (12 installed and 1 spare), thirty (30) User Data Modules (UDM) for Common Missile Warning System (CMWS), Common Missile Warning System (CMWS) Classified Software Updates, Machine Gun Component Spare Parts, Operation Mission Data Set (MDS) in support of the AN/APR-39C(V)l/4, twelve (12) AN/AVS-7 Heads-Up Display, aircraft warranty, air worthiness support, calibration services, spare and repair parts, support equipment, communication equipment, weapons, ammunition, night vision devices, publications and technical documentation, personnel training and training devices, site surveys, tool and test equipment, U.S. Government and contractor technical and logistics support services, and other related elements of logistical and program support.

(iv) Military Department: Army (EZ-B-UEK)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: May 3, 2019

* As defined in Section 47(6) of the Arms Export Control Act.

POLICY JUSTIFICATION

Czech Republic—UH-60M Black Hawk Helicopters

The Government of Czech Republic has requested to buy (12) UH-60M Black Hawk helicopters, with twenty-eight (28) T700-GE-701D engines (24 installed and 4 spares), twenty-nine (29) H-764GU Embedded Global Positioning Systems with Inertial Navigation and Country Unique SAASM (24 installed and 5 spares), twenty-four (24) M240H machine guns, one-hundred fourteen (114) Advanced Precision Kill Weapon Systems (APKWS), and fifteen (15) AN/AAR-57(V)3 Common Missile Warning System (CMWS) (12 installed and 3 spares). Also included are four (4) Aviation Mission Planning Systems (AMPS), twenty-nine (29) AN/ARC-231 UHF/VHF Radios with RT-1808A, twenty-nine (29) AN/ARC-201D SINCGARS Airborne Radios System with RT-1478D, fifteen (15) AN/ARC-220(V)3 HF Radio, twelve (12) Federated Advanced Navigation System (FANS) with RNP/RNAV, fifteen (15) AN/APX-123 IFF with Mode 4/5 Transponder (12 installed and 3 spares), fifteen (15) AN/ARN-147(V) (12 installed and 3 spares), fifteen (15) AN/ARN-149(V) Automatic Digital Frequency (12 installed and 3 spares), fifteen (15) Tactical Airborne Navigation System (TACAN) AN/ARN-153 (12 installed and 3 spares), fifteen (15) AN/APR-39C(V)l/4 Radar Warning Receiver, fifteen (15) AN/AVR-2B(V) Laser Warning System (12 installed and 3 spares), sixty (60) Military Grade AN/AVS-6 Night Vision Goggles (NVGs), four (4) EBC-406HM Emergency Locator Transmitter (ELT), Aircraft Wireless Intercom System (AWIS), forty-eight (48) Machine Gun Mounts, twenty-four (24) M134D Mini Gun, four thousand (4,000) M-134 Inert Training Rounds, twenty-four (24) M-134 Power Supply Pack, twelve (12) GP-19 Machine Gun Pods, twelve (12) GAU-19B Machine Guns, twenty-four (24) M-134 Power Supply Pack, one hundred forty-four (144) M-134 Spare Barrels, four thousand (4,000) M-134 Training Rounds, twelve (12) M-134 Mount Systems, twelve (12) Packaging Crating and Handling Mount System in Support of M-134, twelve (12) M261 Rocket Launchers, one hundred thousand (100,000) 7.62MM 4 Ball M80 1 Tracer M62 Linked, five hundred one thousand (501,000) Cartridge 7.62MM 4 Ball 1 Tracer, ten thousand (10,000) Cartridge 50 Caliber Ball, ten thousand (10,000) 50 Caliber 4 Ball 1 Tracer, ten thousand (10,000) Cartridge 50 Caliber 4 Armor Piercing Incendiary 1 Armor Piercing Incendiary Tracer Linked, three Hundred (300) Cartridge 25.4 Millimeter Decoy M839, four (4) Cartridge Impulse CCU-92/A, three hundred eighty-four (384) Rocket 2.75 Inch High Explosive Warhead M151 Fuze M423 Motor MK66-4, two hundred forty (240) Warhead 2.75 Inch Rocket M151HE, one hundred eighty (180) Rocket Motor 2.75 Inch MK66-4, four hundred (400) Flare Aircraft Countermeasure M206, Two (2) Airborne Command and Control Systems includes three (3) PRC-117s (two (2) as line-of-sight and one (1) as beyond line-of-sight, one (1) iridium phone, one (1) ROVER 4 (to UAS), DAGAR (GPS)), twelve (12) AN/APN-209 Radar Altimeter, twenty-four (24) Upturned Exhaust System, thirteen (13) MX-10D EO/IR Sensor with Laser Designator (12 and 1 spare), thirteen (13) IZLED 200 PIR Laser (12 installed and 1 spare), thirty (30) User Data Modules (UDM) for Common Missile Warning System (CMWS), Common Missile Warning System (CMWS) Classified Software Updates, Machine Gun Component Spare Parts, Operation Mission Data Set (MDS) in support of the AN/APR-39C(V)l/4, twelve (12) AN/AVS-7 Heads-Up Display, aircraft warranty, air worthiness support, calibration services, spare and repair parts, support equipment, communication equipment, weapons, ammunition, night vision devices, publications and technical documentation, personnel training and training devices, site surveys, tool and test equipment, U.S. Government and contractor technical and logistics support services, and other related elements of logistical and program support. The total estimated program cost is $800 million.

This proposed sale will support the foreign policy and national security of the United States by helping to improve the security of a NATO partner that is an important force for ensuring peace and stability in Europe. The proposed sale will support the Czech Republic's need for its own self-defense and support NATO defense goals.

The Czech Republic is considering either the UH-60M or the UH-1Y/AH-1Z to replace its aging Mi-24 helicopters. The Czech Republic intends to use these helicopters to modernize its armed forces and strengthen its homeland defense and deter regional threats. This will contribute to the Czech Republic's military goal of updating its capabilities while further enhancing interoperability with the United States and NATO allies. The Czech Republic will have no difficulty absorbing these helicopters into its armed forces.

The proposed sale of this equipment will not alter the basic military balance in the region.

The principal contractors will be Sikorsky Aircraft Company, Stratford, Connecticut; and General Electric Aircraft Company (GEAC), Lynn, Massachusetts. There are no known offset agreements in connection with this potential sale.

Implementation of this proposed sale may require the assignment of an additional three U.S. Government and five contractor representatives in country full-time to support the delivery and training for approximately two-five years.

There will be no adverse impact on U.S. defense readiness as a result of this proposed sale.

Transmittal No. 19-17

Notice of Proposed Issuance of Letter of Offer Pursuant to Section 36(b)(1) of the Arms Export Control Act

Annex

Item No. vii

(vii) Sensitivity of Technology:

1. The UH-60M aircraft is a medium lift four bladed aircraft which includes two (2) T-701D Engines. The aircraft has four (4) Multifunction Displays (MFD), which provides aircraft system, flight, mission, and communication management systems. The instrumentation panel includes four (4) Multifunction Displays (MFDs), two (2) Pilot and Co-Pilot Flight Director Panels, and two (2) Data Concentrator Units (DCUs). The Navigation System will have Embedded GPS/INS (EGIs), and two (2) Advanced Flight Control Computer Systems (AFCC), which provide 4 axis aircraft control.

2. The H764-G EGI provides GPS and INS capabilities to the aircraft. The EGI will include Selective Availability anti-Spoofing Module (SAASM) security modules to be used for secure GPS PPS if required. The Embedded GPS/INS within the SAASM contains sensitive technology.

3. The Advanced Precision Kill Weapon Systems (APKWS) is a low cost semi-active laser guidance kit developed by BAE Systems which is added to current unguided 70 mm rocket motors and warheads similar to and including the Hydra 70 rocket. It is a low collateral damage weapon that can effectively strike both soft and lightly armored targets. APKWS turns a standard unguided 2.75 inch (70 mm) rocket into a precision laser-guided rocket, classification up to SECRET.

4. The AAR-57A Common Missile Warning System (CMWS) detects energy emitted by threat missile in-flight, evaluates potential false alarm emitters in the environment, declares validity of threat and selects appropriate counter-measures. The CMWS consists of an Electronic Control Unit (ECU), Electro-Optic Missile Sensors (EOMSs), and Sequencer and Improved Countermeasures Dispenser (ICMD). Reverse engineering is not a major concern. The ECU hardware is classified CONFIDENTIAL; releasable technical manuals for operation and maintenance are classified SECRET.

5. The AN/ARC-231, Very High Frequency/Ultra High Frequency (VHF/UHF), Line-of-Sight (LOS) Radio with frequency agile modes, Electronic counter-countermeasures (ECCM), UHF Satellite Communications (S ATCOM), Demand Assigned Multiple Access (DAMA), Integrated Waveform (IW), Air Traffic Control (ATC) channel spacing is operator selectable in 5, 8.33,12.5, and 25kHz steps. The antennas associated with this radio contain sensitive technology.

6. The AN/AVR-2B Laser Detecting Set is a passive laser warning system that receives, processes and displays threat information resulting from aircraft illumination by lasers on multi-functional display. The hardware is classified CONFIDENTIAL; releasable technical manuals for operation and maintenance are classified SECRET.

7. The AN/APR-39A Radar Signal Detecting Set is a system that provides warning of radar directed air defense threat and allows appropriate countermeasures. This is the 1553 databus compatible configuration. The hardware is classified CONFIDENTIAL when programmed with U.S. threat data; releasable technical manual for operation and maintenance are classified CONFIDENTIAL; releasable technical data (technical performance) is classified SECRET.

8. The AN/APX-123A, Identification Friend or Foe (IFF) Transponder, is a space diversity transponder and is installed on various military platforms. When installed in conjunction with platform antennas and the Remote Control Unit (or other appropriate control unit), the transponder provides identification, altitude and surveillance reporting in response to interrogations from airborne, ground-based and/or surface interrogators. This item is contains sensitive technology.

9. The AN/AVS-6 Aviator's Night Vision Goggle is a lightweight binocular that can be mounted to a variety of aviator helmets. The binocular offers high reliability and performance and enables rotary-wing aviators to conduct and complete night operations during the darkest nights of the year. This item contains sensitive technology.

10. The AN/ARC-201D, Single Channel Ground to Air Radio System (SINCGARS), is a tactical airborne radio subsystem that provides secure, anti-jam voice and data communication. The integration of COMSEC and the Data Rate Adapter (DRA) combines three Line Replaceable Units into one and reduces overall weight of the aircraft. Performance capabilities, ECM/ECCM specification and Engineering Change Orders (ECOs) are classified SECRET.

11. The AN/ARC-220 is a fully digital signal processing (DSP) high-frequency radio that gives you two-way communication over the 2.0000 to 29.9999 MHz high-frequency. The AN/ARC-220 also offers advanced communications features such as embedded Automatic Link Establishment (ALE), serial tone data modem and anti-jam (ECCM) functions that can be used for tactical rotary wing and fixed-wing applications.

12. The AN/ARN-149, Automatic Direction Finder (ADF) Receiver, is a low frequency radio that provides automatic compass bearing on any radio signal within the frequency range of 100 to 2199.5 kHz as well as navigation where a commercial AM broadcast signal is the only available navigation aid.

13. The AN/ARN-153, Tactical Airborne Navigation (TACAN) System, is a full featured navigational system that supports four modes of operation: receive mode; transmit receive mode; air-to-air receive mode; and air-to-air transmit-receive mode. The TACAN provides a minimum 500-watt transmit capability with selecting range ratios of 30:1 or 4:1 which is accomplished through the automatic gain control (AGC) enable/disable switch, the 1553 bus, or the RNAV (ARINC) input bus.

14. The AN/ARN-147, Very High Frequency (VHF) Omni Ranging/Instrument Landing System Receiver, that provides internal MIL-STD-1553B capability and is MIL-E-5400 class II qualified. It meets international operability requirements by providing 50-kHz channel spacing for 160-VOR and 40-localizer/glideslope channels.

15. The KIV-77, a Common IFF Applique Crypto Computer Identification, Friend or Foe (IFF) which maintains the crypto in a separate 3.5 in. x 4.25 in. x 1 in., 16-oz LRU allowing it to be removed and stored. This item is a Controlled Cryptographic Item (CCI).

16. The AN/PYQ-10(C) Simple Key Loader (SKL) is a ruggedized, portable, handheld fill device, for securely receiving, storing, and transferring data between compatible cryptographic and communications equipment. It supports both the DS-101 and DS-102 interfaces, as well as the KSD-64 Crypto Ignition Key and is backward-compatible with existing End Cryptographic Units (ECU) and forward-compatible with future security equipment and systems. This item is classified CONFIDENTIAL.

17. Common Missile Warning System (CMWS) User Data Module (UDM) to support Generation III Electronics Control Unit (ECU). The UDM is a ruggedized, portable, hand-held data storage device for securely receiving, storing, and transferring data between CMWS ECUs (similar to a flash, or “thumb“ drive). The UDM itself is UNCLASSIFIED when initially received. However, when loaded with data, it becomes classified to the appropriate level of the data. In the case of CMWS Software, this raises the classification level to SECRET.

18. Common Missile Warning System (CMWS) Classified Software is provided as Country Specific Software required for the operation and support of the Common Missile Warning System (CMWS) AN/AAR-57. The software, once developed and encrypted, is loaded on a User Data Module (UDM) for transfer and use by the Customer. The software is classified SECRET.

19. Operational Mission Data Set (MDS) in support of the AN/APR-39C(V)l/4 including Software Development. The MDS is a Country Specific, customer defined software data set that defines the radar emitter specifications used by the APR-39C(V)l/4 Radar Warning Receiver to examine signal received signal for potential threats. The Data Set includes data Electronic Warfare Integrated Preprogramming Database (EWIRDB) emitter parametric information to generate the MDS. The MDS is classified SECRET.

20. M1 (Z133) is a 25.4mm Decoy Chaff Cartridge. Z133 is a component in A965. All cartridge components including the cartridge case, piston, end cap and theoretical band coverage are UNCLASSIFIED. The specification and the drawings for this item are also UNCLASSIFIED. Radar Cross Section (RCS) measurements of deployed chaff are CONFIDENTIAL.

21. If a technologically advanced adversary were to obtain knowledge of the specific hardware and software elements, the information could be used to develop countermeasures or equivalent systems which might reduce weapon system effectiveness or be used in the development of a system with similar or advanced capabilities.

22. This sale is necessary in furtherance of the U.S. foreign policy and national security objectives outlined in the enclosed Policy Justification. A determination has been made that Czech Republic can provide the same degree of protection for the sensitive technology being released as the U.S. Government.

23. All defense articles and services listed in this transmittal have been authorized for release and export to Czech Republic.

[FR Doc. 2019-12507 Filed 6-12-19; 8:45 am]

BILLING CODE 5001-06-P